ENVIRONMENTAL PROTECTION AGENCY

[EPA-HQ-OW-2023-0580; FRL-12332-01-OMS]

Agency Information Collection Activities; Submission to the Office of Management and Budget for Review and Approval; Comment Request; Publicly Owned Treatment Works (POTW) Influent Per- and Polyfluoroalkyl Substances (PFAS) Study and National Sewage Sludge Survey (NSSS) (New)

AGENCY: Environmental Protection Agency (EPA).

ACTION: Notice.

SUMMARY: The Environmental Protection Agency (EPA) has submitted an information collection request (ICR), Publicly Owned Treatment Works (POTW) Influent Per- and Polyfluoroalkyl Substances (PFAS) Study and National Sewage Sludge Survey (NSSS) (EPA ICR Number 2799.01, OMB Control Number 2040-NEW) to the Office of Management and Budget (OMB) for review and approval in accordance with the Paperwork Reduction Act. This is a request for approval of a new collection. Public comments were previously requested via the Federal Register on March 26, 2024 during a 60-day comment period. This notice allows for an additional 30 days for public comments.

DATES: Comments may be submitted on or before November 12, 2024.

ADDRESSES: Submit your comments, referencing Docket ID Number EPA-HQ-OW-2023-0580, to EPA online using www.regulations.gov (our preferred method), by email to OW-Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Sean Dempsey, Engineering and Analysis Division, Office of Science and Technology, (4303T), Environmental Protection Agency, 1200 Pennsylvania Ave. NW, Washington, DC 20460; telephone number: 202-564-5088; email address: Dempsey.Sean@epa.gov.

SUPPLEMENTARY INFORMATION: This is a request for approval of a new collection. An agency may not conduct or sponsor and a person is not required to respond to a collection of information unless it displays a currently valid OMB control number.

Public comments were previously requested via the Federal Register on March 26, 2024 during a 60-day comment period (89 FR 20962). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This data collection is intended to gather essential data to identify and quantify sources of per- and polyfluoroalkyl substances (PFAS) discharges, prioritize industrial categories for potential regulation, and establish a current national data set of sewage sludge characteristics. The data collection will support two separate EPA studies—the POTW Influent PFAS Study and the National Sewage Sludge Survey (NSSS).

The Clean Water Act directs the EPA to develop national regulations known as Effluent Limitations Guidelines and Standards (ELGs) to place limits on the pollutants that are discharged by categories of industry to surface waters and POTWs. Additionally, Section 405(d) of the Clean Water Act requires that the EPA establish requirements for the use or disposal of sewage sludge and review the regulations every two years to identify additional pollutants.

For many decades, industrial facilities have used and discharged PFAS into the environment. PFAS are a class of synthetic chemicals of concern to the EPA because of their widespread use and potential to accumulate in the environment. Certain PFAS are known to cause adverse ecological and human health effects.

The EPA will require, through an OMB-approved Information Collection Request, a subset of large POTWs across the United States to complete an electronic questionnaire and collect and analyze wastewater and sewage sludge samples. The data collection activities will produce a robust data set that will characterize the type and quantity of PFAS in wastewater discharges from industrial users (including industrial categories that the EPA has determined historically or currently use PFAS but for which there is insufficient PFAS monitoring data available), domestic wastewater or sewage, and POTW influent, effluent, and sewage sludge. The wastewater sampling data will primarily be used to identify and prioritize industrial point source categories where additional study or regulations may be warranted to control PFAS discharges. The sewage sludge sampling will fulfill the EPA's data needs for the upcoming NSSS by establishing a current national data set of sewage sludge characteristics which the EPA will subsequently use to inform upcoming risk assessments and the need for future regulations and guidance pertaining to the management of sewage sludge.

As part of the POTW Influent PFAS Study and NSSS, the EPA estimates that approximately 400 POTWs (individual wastewater or standalone wastewater treatment plans, as defined by Section 212 of the Clean Water Act, which is owned by a state or municipality) with a daily design flow rates greater than or equal to 10 million gallons per day (MGD) and a service population greater than or equal to 50,000 people will be required to complete an electronic questionnaire. The questionnaire will gather POTW-specific information and data on industrial users discharging to the POTW, known or suspected sources of PFAS discharges to the POTW, and wastewater and sewage sludge management practices of the POTW. The EPA will use the information and data collected in the questionnaire to select a subset of 200 to 300 of the 400 POTWs to participate in the POTW Influent PFAS Study and the NSSS's sampling programs.

Form numbers: None.

Respondents/affected entities: 400 POTWs with a daily design flow rate greater than or equal to 10 million gallons per day (MGD) and a service population greater than or equal to 50,000 people will be required to complete an electronic questionnaire. 200-300 of the 400 POTWs will be required to conduct wastewater and sewage sludge sampling.

Respondent's obligation to respond: Mandatory (Clean Water Act Section 308).

Estimated number of respondents: 400 (total).

Frequency of response: One-time data collection.

Total estimated burden: 25,640 hours. Burden is defined at 5 CFR 1320.03(b).

Total estimated cost: $5,486,816 (one-time cost), which includes $3,891,520 in capital or operation & maintenance costs.

Changes in the estimates: This is a new data collection request and is a one-time temporary increase to the agency's burden.

Courtney Kerwin,
Director, Regulatory Support Division.

[FR Doc. 2024-23474 Filed 10-9-24; 8:45 am]

BILLING CODE 6560-50-P